DEPARTMENT OF THE INTERIOR

Bureau of Land Management

[OR-010-1020-PK; HAG 06-001]

Joint Meeting for the Southeast Oregon, John Day-Snake, and Eastern Washington Resource Advisory Councils (TRI RAC)

AGENCY: Bureau of Land Management (BLM), Lakeview District.

ACTION: Notice.

SUMMARY: The TRI RAC will hold a joint meeting for all members on Monday November 7, 2005 from 8 a.m. Pacific Standard Time (PT) to 5 p.m. Tuesday November 8, 2005. The meeting will begin at 7:30 a.m. and end about noon. The meeting is being held at the Running Y Ranch Resort, Conference Room, 5500 Running Y Road, Klamath Falls, Oregon 97601. Meeting sessions are open to the public. A comment period is scheduled for 10:15 a.m. (PT) on Monday November 7, 2005. The meeting topics to be discussed include: New member orientation and video, a BLM and Forest Service update by the State Director and Regional Forester, Congressional updates, and a panel discussion on RAC involvement. Grazing regulations, the wild horse and burro program, and planning and implementation updates will follow. There will be a panel discussion on volunteerism and outside funding, stewardship contracting, proactive strategies and a RAC restructuring proposal. There may also be other issues that may come before the Councils.

The Southeast Oregon Resource Advisory Council will hold a brief meeting Sunday November 6, 2005, at the Running Y Ranch Resort at 3 p.m. (PT) in the Board Room. The John Day-Snake Resource Advisory Council will hold a brief meeting on Tuesday November 8, 2005 following the close of the TRI RAC meeting. These additional meetings will be to discuss the same issues and concerns that are scheduled for the TRI RAC meeting.

FOR FURTHER INFORMATION CONTACT: Additional information concerning the TRI RAC meeting may be obtained from Pam Talbott, contact representative, Lakeview Interagency Office, 1301 South G Street, Lakeview, Oregon 97630 (541) 947-6107, or ptalbott@or.blm.gov.

Dated: October 4, 2005.
Shirley Gammon,
Lakeview District Manager.

[FR Doc. 05-20321 Filed 10-7-05; 8:45 am]

BILLING CODE 4310-33-M